DEPARTMENT OF HEALTH AND HUMAN SERVICES

Centers for Disease Control and Prevention

National Vaccine Advisory Committee, Subcommittee on Future Vaccines, Subcommittee on Immunization Coverage, and Subcommittee on Vaccine Safety and Communication: Meetings

In accordance with section 10(a)(2) of the Federal Advisory Committee Act (Pub. L. 92-463), the Centers for Disease Control and Prevention (CDC) announces the following Federal advisory committee and subcommittee meetings.

Name: National Vaccine Advisory Committee (NVAC).

Times and Dates: 9 a.m.-2:15 p.m., June 3, 2003; 8:30 a.m.-3 p.m., June 4, 2003.

Place: Hubert H. Humphrey Building, Room 705A, 200 Independence Avenue, SW., Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters to be Discussed: Agenda items will include: a report from the National Vaccine Program Office (NVPO); an update on the Smallpox Vaccination Program; a report from the Acting Assistant Secretary for Health; an update on vaccine supply issues; a report from the polio vaccine stockpile workgroup; a report on the Institute of Medicine (IOM) Vaccine Safety Review Committee; a report from the IOM on their review of the Smallpox Vaccination Program; a report from the Influenza Immunization Summit; an update on pandemic influenza planning; a report from the Immunization Coverage Subcommittee, the Future Vaccines Subcommittee, and the Vaccine Safety and Communication Subcommittee; a discussion of compensation for vaccine administration; a discussion on Enhancing Public Participation in Immunization Decision-Making; a report from the Workgroup on Public Health Options for Implementing Immunization Recommendations; a report from the Polio Laboratory Containment Workgroup; a discussion of monitoring anthrax vaccine adverse events using the Department of Defense Medical Surveillance System; reports from the Advisory Commission on Childhood Vaccines/Division of Vaccine Injury Compensation, the Vaccine Related Biological Products Advisory Committee/Food and Drug Administration, and the Advisory Committee on Immunization Practices/National Immunization Program/National Center for Infectious Diseases.

Name: Subcommittee on Future Vaccines.

Time and Date: 2:30 p.m.-5 p.m., June 3, 2003.

Place: Hubert H. Humphrey Building, Room 405A, 200 Independence Avenue, SW., Washington, DC 20201.

Status: Open to the public, limited only by the space available.

Purpose: This subcommittee develops policy options and guides national activities that lead to accelerated development, licensure, and the best use of new vaccines in the simplest possible immunization schedules.

Matters to be Discussed: Agenda items will include an update on the proposed pneumococcal meeting; an update on the newborn vaccination meeting; CMV status report; and a presentation on Group A Steptococcus vaccines.

Name: Subcommittee on Immunization Coverage.

Time and Date: 2:30 p.m.-5 p.m., June 3, 2003.

Place: Hubert H. Humphrey Building, Room 705A, 200 Independence Avenue, SW., Washington, DC 20201.

Status: Open to the public, limited only by the space available.

Purpose: This subcommittee identifies and proposes solutions that provide a multifaceted and holistic approach to reducing barriers that result in low immunization coverage for children.

Matters to be Discussed: Agenda items will include an update on publication of the newly revised Adult and Pediatric Immunization Standards; a discussion of adolescent immunization; Immunization Registries—Updates on the use of VFC funds for registry development standards of excellence; PCV7 update on impact of shortage on coverage and active bacterial core surveillance; a discussion of the draft report from the Workgroup on Public Health Options for Implementing Immunization Recommendations; updates on pneumococcal and influenza coverage; and a review of data on the burden of pneumococcal disease.

Name: Subcommittee on Vaccine Safety and Communication.

Time and Date: 2:30 p.m.-5 p.m., June 3, 2003.

Place: Hubert H. Humphrey Building, Room 425A, 200 Independence Avenue, SW., Washington, DC 20201.

Status: Open to the public, limited only by the space available.

Purpose: This subcommittee reviews issues relevant to vaccine safety and adverse reactions to vaccines.

Matters to be Discussed: Next Steps in Risk Communication: Reviews of IOM Immunization Safety Review Committee Recommendations, and of NVPO Workshop Recommendations; a discussion of the influenza communications programs; a discussion of next topics for the IOM Safety Review Committee; a review of the National Immunization Program Website; and, an update on thimerosal-related litigation.

Agenda items are subject to change as priorities dictate.

Contact Person for More Information: Gloria Sagar, Committee Management Specialist, NVPO, CDC, 4700 Buford Highway M/S K-77, Chamblee, Georgia 30341, telephone 770/488-2040.

The Director, Management Analysis and Services Office, has been delegated the authority to sign Federal Register notices pertaining to announcements of meetings and other committee management activities, for both CDC and the Agency for Toxic Substances and Disease Registry.

Dated: May 7, 2003.
Alvin Hall,
Director, Management Analysis and Services Office, Centers for Disease Control and Prevention.

[FR Doc. 03-11877 Filed 5-12-03; 8:45 am]

BILLING CODE 4163-18-P